DEPARTMENT OF TRANSPORTATION

Federal Aviation Administration

14 CFR Part 71

[Docket No. FAA-2023-0444; Airspace Docket No. 22-ASO-16]

RIN 2120-AA66

Amendment of VOR Federal Airways V-71 and V-245, Revocation of VOR Federal Airways V-554 and V-570, and Establishment of United States Area Navigation (RNAV) Routes T-471, T-473, and T-474 in the Vicinity of Natchez, MS

AGENCY: Federal Aviation Administration (FAA), DOT.

ACTION: Final rule.

SUMMARY: This action amends Very High Frequency (VHF) Omnidirectional Range (VOR) Federal airways V-71 and V-245, revokes VOR Federal airways V-554 and V-570, and establishes United States Area Navigation (RNAV) routes T-471, T-473, and T-474. The FAA is taking this action due to the planned decommissioning of the VOR portion of the Natchez, MS (HEZ), VOR/Distance Measuring Equipment (VOR/DME) navigational aid (NAVAID). The Natchez VOR is being decommissioned in support of the FAA's VOR Minimum Operational Network (MON) program.

DATES: Effective date 0901 UTC, October 5, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking for Docket No. FAA-2023-0444 in the Federal Register (88 FR 12872; March 1, 2023), proposing to amend VOR Federal airways V-71 and V-245, revoke VOR Federal airways V-554 and V-570, and establish RNAV routes T-471, T-473, and T-474 due to the planned decommissioning of the VOR portion of the Natchez, MS, VOR/DME NAVAID. Interested parties were invited to participate in this rulemaking effort by submitting written comments on the proposal. No comments were received.

Incorporation by Reference

VOR Federal airways are published in paragraph 6010(a) and United States Area Navigation Routes (T-routes) are published in paragraph 6011 of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending VOR Federal airways V-71 and V-245, revoking VOR Federal airways V-554 and V-570, and establishing RNAV routes T-471, T-473, and T-474. The ATS route amendments, revocations, and establishments are due to the planned decommissioning of the VOR portion of the Natchez, MS, VOR/DME. The ATS route actions are described below.

V-71: V-71 extends between the Fighting Tiger, LA, VOR/Tactical Air Navigation (VORTAC) and the Topeka, KS, VORTAC; between the Lincoln, NE, VORTAC and the O'Neill, NE, VORTAC; and between the Pierre, SD, VORTAC and the Williston, ND, VOR/DME. The airway segment overlying the Natchez, MS, VOR/DME between the Fighting Tiger VORTAC and the Monroe, LA, VORTAC is removed. As amended, the airway extends between the Monroe VORTAC and the Topeka VORTAC, between the Lincoln VORTAC and the O'Neill VORTAC, and between the Pierre VORTAC and the Williston VOR/DME.

V-245: V-245 extends between the Alexandria, LA, VORTAC and the Bigbee, MS, VORTAC. The airway segment overlying the Natchez, MS, VOR/DME between the Alexandria VORTAC and the Magnolia, MS, VORTAC is removed. As amended, the airway extends between the Magnolia VORTAC and the Bigbee VORTAC.

V-554: V-554 is removed in its entirety.

V-570: V-570 is removed in its entirety.

T-471: T-471 is established between the RCOLA, LA, waypoint (WP), located near the Fighting Tiger, LA, VORTAC, and the Monroe, LA, VORTAC. This new RNAV T-route mitigates the removal of the V-71 airway segment between the Fighting Tiger VORTAC and the Monroe VORTAC; providing RNAV routing from the Baton Rouge, LA, area northwestward to the Monroe, LA, area. The full T-471 route description is listed in the amendments to part 71 as set forth below.

T-473: T-473 is established between the ICEKI, MS, WP and the Monroe, LA, VORTAC. This new RNAV T-route mitigates the removal of V-570 between the Mc Comb VORTAC and the Natchez VOR/DME and the removal of V-554 between the Natchez VOR/DME and Monroe VORTAC; providing RNAV routing from the McComb, MS, area northwestward to the Monroe, LA, area. The full T-473 route description is listed in the amendments to part 71 as set forth below.

T-474: T-474 is established between the Alexandria, LA, VORTAC and the Magnolia, MS, VORTAC. This new RNAV T-route mitigates the removal of the V-245 airway segment between the Alexandria VORTAC and the Magnolia VORTAC; providing RNAV routing from the Alexandria, LA, area northeastward to the Magnolia, MS, area. The full T-474 route description is listed in the amendments to part 71 as set forth below.

All NAVAID radials listed in the V-71 description in the Amendment section below are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-71 and V-245, revoking VOR Federal airways V-554 and V-570, and establishing RNAV routes T-471, T-473, and T-474, due to the planned decommissioning of the VOR portion of the Natchez, MS, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima; and paragraph 5-6.5k, which categorically excludes from further environmental impact review publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-71 [Amended]

From Monroe, LA; El Dorado, AR; Hot Springs, AR; INT Hot Springs 358° and Harrison, AR, 176° radials; Harrison; Springfield, MO; Butler, MO; to Topeka, KS. From Lincoln, NE; Columbus, NE; to O'Neill, NE. From Pierre, SD; Bismarck, ND; to Williston, ND.

* * * * *

V-245 [Amended]

From Magnolia, MS; to Bigbee, MS.

* * * * *

V-554 [Removed]

* * * * *

V-570 [Removed]

* * * * *

Paragraph 6011 United States Area Navigation Routes.

* * * * *

T-471 RCOLA, LA to Monroe, LA (MLU) [New]
RCOLA, LA | WP | (Lat. 30°29′06.52″ N, long. 091°17′37.96″ W)
NTCHZ, MS | WP | (Lat. 31°37′05.81″ N, long. 091°17′58.18″ W)
Monroe, LA (MLU) | VORTAC | (Lat. 32°31′00.77″ N, long. 092°02′09.65″ W)
* * * * * * *
T-473 ICEKI, MS to Monroe, LA (MLU) [New]
ICEKI, MS | WP | (Lat. 31°18′16.12″ N, long. 090°15′28.85″ W)
NTCHZ, MS | WP | (Lat. 31°37′05.81″ N, long. 091°17′58.18″ W)
TULLO, LA | WP | (Lat. 31°58′47.77″ N, long. 091°48′24.56″ W)
Monroe, LA (MLU) | VORTAC | (Lat. 32°31′00.77″ N, long. 092°02′09.65″ W)
* * * * * * *
T-474 Alexandria, LA (AEX) to Magnolia, MS (MHZ) [New]
Alexandria, LA (AEX) | VORTAC | (Lat. 31°15′24.23″ N, long. 092°30′03.50″ W)
NTCHZ, MS | WP | (Lat. 31°37′05.81″ N, long. 091°17′58.18″ W)
Magnolia, MS (MHZ) | VORTAC | (Lat. 32°26′02.65″ N, long. 090°05′59.18″ W)

* * * * *

Issued in Washington, DC, on July 13, 2023.
Karen L. Chiodini,
Acting Manager, Rules and Regulations Group.

[FR Doc. 2023-15322 Filed 7-19-23; 8:45 am]

BILLING CODE 4910-13-P